DEPARTMENT OF THE TREASURY

Community Development Financial Institutions Fund

Notice of Allocation Availability (NOAA) Inviting Applications for the CY 2006 Allocation Round of the New Markets Tax Credit Program

ACTION: Change of allocation application deadline.

SUMMARY: On July 15, 2005, the Community Development Financial Institutions Fund (the “Fund”) announced in a NOAA for the New Markets Tax Credit Program (70 FR 41075) that the deadline for electronic allocation applications is 5 p.m. ET on September 21, 2005. The NOAA also announced that paper allocation applications must be postmarked on or before September 21, 2005 and received by the Fund at the address cited in the NOAA by 5 p.m. ET on September 30, 2005. Due to the recent occurrence of certain natural disasters, the Fund will consider extending these deadlines, on a case-by-case basis, for applicants that have been directly affected by said disasters. In general, to be eligible for an application deadline extension, an applicant must demonstrate that it cannot submit its application by September 21, 2005 because:

1. Its principal place of business is located in a county for which the Federal Emergency Management Agency (FEMA) has: a) issued a “major disaster declaration” since July 15, 2005; and b) made a determination that such county is eligible for both “individual and public assistance”; or

2. There exist mitigating factors directly attributable to the disaster-related conditions in a county for which FEMA has: a) issued a “major disaster declaration” since July 15, 2005; and b) made a determination that such county is eligible for both “individual and public assistance.”

If you would like to request an application deadline extension, you must send your request via e-mail to grantsmanagement@cdfi.treas.gov with the subject line “Deadline Extension Request: 2006 NMTC Allocation Application.” If you are unable to file your request by e-mail, you may contact the Fund by telephone at (202) 622-8226 or by facsimile at (202) 622-6453. These are not toll free numbers. Be sure to indicate in your telephone message or fax that you are requesting an extension of the 2006 NMTC Allocation Application deadline.

In your request, you must explain why the application deadline extension is necessary, citing the specific circumstances preventing your organization from completing and/or submitting the application materials by the deadlines set forth in the NOAA. You must address, at a minimum, whether: your offices were closed and/or were without electricity for significant periods of time; staff members were not available to work on the application materials during critical periods; and/or other application partners (e.g., investors, consultants, community partners) were not available to provide materials critical to the compilation of a complete application. To ensure full consideration of your request prior to the September 21, 2005 Allocation Application deadline, you should submit your extension request as soon as feasible and by no later than 5 p.m. ET, Monday, September 19, 2005. The Fund reserves the right, in its sole discretion, to request additional supporting documentation before rendering a final determination.

Please also note that the Fund is not at this time accepting any requests to extend deadlines pertaining to the issuance of qualified equity investments by prior allocatees planning to apply for allocations in the CY 2006 round of the NMTC Program (see section III.A.2.(a) of the NOAA). The Fund may issue, in its sole discretion, additional guidance on this matter at a later date.

All other information and requirements set forth in the July 15, 2005 NOAA shall remain effective, as published.

FOR FURTHER INFORMATION CONTACT: The Fund will provide programmatic and information technology support related to the allocation application between the hours of 9 a.m. and 5 p.m. ET through September 19, 2005. The Fund will not respond to phone calls or e-mails concerning the application that are received after 5 p.m. ET on September 19, 2005 until after the allocation application deadline of September 21, 2005. Applications and other information regarding the Fund and its programs may be obtained from the Fund's Web site at http://www.cdfifund.gov. The Fund will post on its Web site responses to questions of general applicability regarding the NMTC Program.

A. Information technology support: Technical support can be obtained by calling (202) 622-2455 or by e-mail at ithelpdesk@cdfi.treas.gov. People who have visual or mobility impairments that prevent them from accessing the Low-Income Community maps using the Fund's Web site should call (202) 622-2455 for assistance. These are not toll free numbers.

B. Programmatic support: If you have any questions about the programmatic requirements of this NOAA, contact the Fund's NMTC Program Manager by e-mail at cdfihelp@cdfi.treas.gov, by telephone at (202) 622-6355, by facsimile at (202) 622-7754, or by mail at CDFI Fund, 601 13th Street, NW., Suite 200 South, Washington, DC 20005. These are not toll-free numbers.

C. Administrative support: If you have any questions regarding the administrative requirements of this NOAA, contact the Fund's Grants Manager by e-mail at grantsmanagement@cdfi.treas.gov, by telephone at (202) 622-8226, by facsimile at (202) 622-6453, or by mail at CDFI Fund, 601 13th Street, NW., Suite 200 South, Washington, DC 20005. These are not toll free numbers.

D. IRS support: For questions regarding the tax aspects of the NMTC Program, contact Branch Five, Office of the Associate Chief Counsel (Passthroughs and Special Industries), IRS, by telephone at (202) 622-3040, by facsimile at (202) 622-4753, or by mail at 1111 Constitution Avenue, NW., Attn: CC:PSI:5, Washington, DC 20224. These are not toll free numbers.

E. Legal counsel support: If you have any questions or matters that you believe require response by the Fund's Office of Legal Counsel, please refer to the document titled “How to Request a Legal Review,” found on the Fund's Web site at http://www.cdfifund.gov. Requests for legal reviews must be received by the Fund no later than October 14, 2005.

Authority: 26 U.S.C. 45D; 31 U.S.C. 321; 26 CFR 1.45D-1.

Dated: September 9, 2005.
Jeffrey C. Berg,
Legal Counsel, Community Development Financial Institutions Fund.

[FR Doc. 05-18325 Filed 9-13-05; 8:45 am]

BILLING CODE 4810-70-P